DEPARTMENT OF VETERANS AFFAIRS

Veterans' Advisory Committee on Rehabilitation; Notice of Meeting

The Department of Veterans Affairs (VA) gives notice under the Federal Advisory Committee Act, 5 U.S.C. App. 2, that a meeting of the Veterans' Advisory Committee on Rehabilitation (VACOR) will be held on Thursday, September 15, and Friday, September 16, 2016 in Room 4E400 at the Department of Veterans Affairs' Board of Veterans' Appeals Conference Room, 425 I Street NW., Washington, DC 20001. The meeting will begin at 8:00 a.m. (EST) each day and adjourn at 5:00 p.m. (EST) on September 15 and at 1:00 p.m. (EST) on September 16, 2016. The meeting will be partially closed to the public.

The purpose of the Committee is to provide advice to the Secretary on the rehabilitation needs of Veterans with disabilities and on the administration of VA's rehabilitation programs.

On September 15, 2016, the Committee will meet in closed session. The Committee will discuss nominees for the office of Vice-Chair of the Committee for the one-year term from September 2016 through September 2017. During the closed session, the Committee will also meet with the VA Office of General Counsel. These discussions will disclose information of a personal nature where disclosure would constitute an unwarranted invasion of personal privacy. Closing the meeting is in compliance with 5 U.S.C. 552b(c)(6).

On September 16, 2016, the Committee will meet in open session from 8:00 a.m. (EST) to 1:00 p.m. (EST). During the meeting, Committee members will be provided updated briefings on various VA programs designed to enhance the rehabilitative potential of disabled Veterans. Members will also begin consideration of potential recommendations to be included in the Committee's next annual report.

Although no time will be allocated for receiving oral presentations from the public, members of the public may submit written statements for review by the Committee to Anthony Estelle, Designated Federal Officer, Veterans Benefits Administration (28), 810 Vermont Avenue NW., Washington, DC 20420, or via email at anthony.estelle@va.gov. In the communication, writers must identify themselves and state the organization, association or person(s) they represent. Individuals who wish to attend the meeting should RSVP to Anthony Estelle at (202) 461-9912, no later than close of business, September 7, 2016. Because the meeting is being held in a government building, a photo I.D. must be presented at the Guard's Desk as a part of the clearance process. Due to an increase in security protocols, and in order to prevent delays in clearance processing, you should allow an additional 30 minutes before the meeting begins. Any member of the public seeking additional information should contact Anthony Estelle at the phone number or email address noted above.

Dated: August 23, 2016.
LaTonya L. Small,
Advisory Committee Management Officer.

[FR Doc. 2016-20511 Filed 8-25-16; 8:45 am]

BILLING CODE P